DEPARTMENT OF TRANSPORTATION

Federal Railroad Administration

[Docket Number FRA-2014-0070]

Petition for Waiver of Compliance

In accordance with Part 211 of Title 49 Code of Federal Regulations (CFR), this document provides the public notice that by a document dated July 18, 2014, BNSF Railway (BNSF) petitioned the Federal Railroad Administration (FRA) for a waiver of compliance from certain provisions of the Federal railroad safety regulations contained at 49 CFR Part 232, Brake System Safety Standards for Freight and Other Non-Passenger Trains and Equipment; End-of-Train Devices. FRA assigned the petition Docket Number FRA-2014-0070.

Specifically, BNSF seeks a temporary waiver of compliance from 49 CFR 232.213(a). The current rule provides that “a railroad may be permitted to move a train up to, but not exceeding, 1,500 miles between brake tests and inspections if the railroad designates a train as an extended haul train.” BNSF requests relief to allow it to operate up to 1,800 miles between inspections.

BNSF states that it requires this relief to ensure its continued ability to meet customer expectations for deliveries of coal (critically low stock piles), grain, and other commodities. Many of these commodities move in efficient unit train service, which is the subject of this waiver request. BNSF's operations are continuing to overcome the challenges originating with harsh winter weather, followed by frost heaves, saturated roadbeds, and a range of flooding events and mud boils; and the compounded effect that the prolonged weather conditions have had on BNSF's entire system and its network fluidity. These weather conditions, coupled with significant and sustained increases in volume in the second half of 2013, as well as high levels of seasonal demand late in 2013, have led to congestion across BNSF's network and a backlog on deliveries of critical commodities. Additionally, Amtrak's Empire Builder service across BNSF North lines experienced negative impacts on its on-time performance due to ongoing congestion; BNSF recognizes that FRA and general public is focused on Amtrak performance and continues to work to improve the Empire Builder's on-time service performance.

A copy of the petition, as well as any written communications concerning the petition, is available for review online at www.regulations.gov and in person at the U.S. Department of Transportation's Docket Operations Facility, 1200 New Jersey Ave. SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by September 10, 2014 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on August 5, 2014.
Ron Hynes,
Director, Office of Safety Assurance and Compliance.

[FR Doc. 2014-18907 Filed 8-8-14; 8:45 am]

BILLING CODE 4910-06-P